DEPARTMENT OF TRANSPORTATION

Surface Transportation Board

[STB Finance Docket No. 34349]

Wallowa-Union Railroad Authority-Acquisition and Operation Exemption-Wallowa County, OR, and Idaho Northern & Pacific Railroad Company

Wallowa-Union Railroad Authority (Authority), a noncarrier, has filed a notice of exemption, as supplemented by letter dated October 29, 2003, under 49 CFR 1150.31 to acquire and operate a 62.58-mile line of railroad extending between milepost 21.0 at or near Elgin and milepost 83.58 at or near Joseph, in Wallowa and Union Counties, OR. The subject line of railroad is owned by Wallowa County, OR (County), and operated by Idaho Northern & Pacific Railroad Company (INPR). Under the proposed transaction, Authority would acquire INPR's right to operate over the line and County's ownership interest in the line.¹ Authority certifies that its projected annual revenues as a result of this transaction do not exceed those that would qualify it as a Class III rail carrier, and that such revenues will not exceed $5 million annually.

¹ See Wallowa County, Oregon-Acquisition and Operation Exemption-Rail Line of Idaho Northern & Pacific Railroad Company Between Elgin and Joseph, OR, STB Finance Docket No. 34214 (STB served June 17, 2002).

The transaction was scheduled to be consummated on or after November 5, 2003 (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34349, must be filed with the Surface Transportation Board, 1925 K Street, NW., Washington, DC 20423-0001. In addition, a copy of each pleading must be served on Thomas F. McFarland, P.C., 208 South LaSalle Street, Suite 1890, Chicago, IL 60604-1112.

Board decisions and notices are available on our Web site at www.stb.dot.gov.

Decided: November 19, 2003.
By the Board, David M. Konschnik, Director, Office of Proceedings.
Vernon A. Williams,
Secretary.

[FR Doc. 03-29565 Filed 11-25-03; 8:45 am]

BILLING CODE 4915-00-P